DEPARTMENT OF THE INTERIOR

Bureau of Land Management

[LLES956000-L14200000-BJ0000-LXSITRST0000]

Eastern States: Filing of Plat of Survey

AGENCY: Bureau of Land Management, Interior.

ACTION: Notice of Filing of Plats of Survey; North Carolina and Minnesota.

SUMMARY: The Bureau of Land Management (BLM) will file the plats of survey of the lands described below in the BLM-Eastern States office in Springfield, Virginia, 30 calendar days from the date of publication in the Federal Register.

FOR FURTHER INFORMATION CONTACT: Bureau of Land Management—Eastern States, 7450 Boston Boulevard, Springfield, Virginia 22153. Attn: Cadastral Survey.

SUPPLEMENTARY INFORMATION: These surveys were requested by the Bureau of Indian Affairs.

The lands surveyed are:

Jackson County, North Carolina

The plat of survey represents the dependent resurvey of a portion of the Qualla boundary and the southern boundary of the Cathcart Tract, in Jackson County, in the State of North Carolina, and was accepted March 30, 2010.

Fifth Principal Meridian, Minnesota

T. 145 N., R 38 W.

The plat of survey represents the dependent resurvey of a portion of the West boundary and a portion of the subdivisional lines, the survey of the subdivision of Sections 8, 9, 10, 18, and 19, the survey of four tracts in Section 8, and the reestablishment of a portion of the record meander lines in Section 19, in Township 145 North, Range 38 West, of the Fifth Principal Meridian, in the State of Minnesota, and was accepted March 23, 2010.

We will place copies of the plats we described in the open files. They will be available to the public as a matter of information.

If BLM receives a protest against a survey, as shown on the plat, prior to the date of the official filing, we will stay the filing pending our consideration of the protest.

We will not officially file a plat until the day after we have accepted or dismissed all protests and they have become final, including decisions on appeals.

Dated: April 5, 2010.
Dominica Van Koten,
Chief Cadastral Surveyor.

[FR Doc. 2010-8106 Filed 4-8-10; 8:45 am]

BILLING CODE 4310-GJ-P